FEDERAL RESERVE SYSTEM

Notice of Proposals to Engage in Permissible Nonbanking Activities or to Acquire Companies that are Engaged in Permissible Nonbanking Activities; Correction

This notice corrects a notice (FR Doc. 04-13149) published on page 32549 of the issue for Thursday, June 10, 2004.

Under the Federal Reserve Bank of St. Louis heading, the entry for First Centralia Bancshares, Inc., Centralia, Kansas, and Morrill Bancshares, Merriam, Kansas, is revised to read as follows:

A. Federal Reserve Bank of Kansas City (Donna J. Ward, Assistant Vice President) 925 Grand Avenue, Kansas City, Missouri 64198-0001:

1. First Centralia Bancshares, Inc., Centralia, Kansas, and Morrill Bancshares, Merriam, Kansas; to acquire up to 77.7 percent of FBC Financial Corporation, and thereby indirectly and indirectly acquire 1st Bank Oklahoma, both of Claremore, Oklahoma, and thereby engage in operating a savings association, pursuant to section 225.28(b)(4)(ii) of Regulation Y.

Comments on this application must be received by July 6, 2004.

Board of Governors of the Federal Reserve System, June 14, 2004.
Robert deV. Frierson,
Deputy Secretary of the Board.

[FR Doc. 04-13784 Filed 6-17-04; 8:45 am]

BILLING CODE 6210-01-S